DEPARTMENT OF DEFENSE

Department of the Navy

Notice of Proposed Information Collection; Commander, Naval Sea Systems Command

AGENCY: Department of the Navy, DOD.

ACTION: Notice.

SUMMARY: The Naval Sea Systems Command (NAVSEASYSCOM) announces a proposed extension of a previously approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 10, 2002.

ADDRESSES: Send written comments and recommendations on the proposed information collection to Commander, Naval Sea Systems Command (SEA 04X13), 2531 Jefferson Davis Highway, Arlington, VA 22242-5160.

FOR FURTHER INFORMATION CONTACT: Sherrell Smith or Leonard Thompson, respectively at (703) 602-4170 (Ext. 139 or 137), to request additional information or to obtain a copy of the proposal and associated collection instruments.

SUPPLEMENTARY INFORMATION: Form Title and OMB Number: Facilities Available for the Construction or Repair of Ships; OMB Control No. 0703-0006.

Needs and Uses: This collection of information provides NAVSEASYSCOM and the Maritime Administration with a list of facilities available for the construction or repair of ships and information utilized in a data base for assessing the production capacity of the individual shipyards. Respondents are businesses involved in shipbuilding and/or repair.

Affected Public: Businesses or other for profit institutions.

Annual Burden Hours: 621.

Number of Respondents: 138.

Responses per Respondent: 1.

Average Burden per Response: 4.5 hours.

Frequency: Annually and as requested.

(Authority: 44 U.S.C. Sec. 3506(c)(2)(A)).

Dated: October 3, 2002.
R.E. Vincent II,
Lieutenant Commander, Judge Advocate General's Corps, U.S. Navy, Federal Register Liaison Officer.

[FR Doc. 02-25935 Filed 10-10-02; 8:45 am]

BILLING CODE 3810-FF-P